NUCLEAR REGULATORY COMMISSION

[Docket Nos. 50-259, 50-260, and 50-296; NRC-2024-0030]

Tennessee Valley Authority; Browns Ferry Nuclear Plant, Units 1, 2, and 3; Intent To Prepare Environmental Impact Statement

AGENCY: Nuclear Regulatory Commission.

ACTION: Notice.

SUMMARY: The U.S. Nuclear Regulatory Commission (NRC) will prepare a supplemental environmental impact statement (SEIS) to evaluate the environmental impacts for the subsequent license renewal (SLR) of Renewed Facility Operating License Nos. DPR-33, DPR-52, and DPR-68 for Browns Ferry Nuclear Plant, Units 1, 2, and 3 (Browns Ferry).

DATES: October 22, 2024.

ADDRESSES: Please refer to Docket ID NRC-2024-0030 when contacting the NRC about the availability of information for this action. You may obtain publicly available information related to this action by any of the following methods:

• Federal Rulemaking Website: Go to https://www.regulations.gov and search for Docket ID NRC-2024-0030. Address questions about Docket IDs in Regulations.gov to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced in this document (if it is available in ADAMS) is provided the first time that it is referenced.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

• Public Library: A copy of the SLR application for Browns Ferry, including the environmental report (ER), is available for public review at the following public library location: Athens-Limestone County Public Library, 603 S Jefferson Street, Athens, AL 35611.

FOR FURTHER INFORMATION CONTACT: Jessica Umaña, Office of Nuclear Material Safety and Safeguards, U.S. Nuclear Regulatory Commission, Washington, DC 20555-0001; telephone: 301-415-5207, email: Jessica.Umana@nrc.gov.

SUPPLEMENTARY INFORMATION:

I. Background

On January 19, 2024, Tennessee Valley Authority, submitted to the NRC an application for subsequent license renewal of Renewed Facility Operating License Nos. DPR-33, DPR-52, and DPR-68, for Units 1, 2, and 3, for an additional 20 years of operation (ADAMS Accession No. ML24019A010). This submission initiated the NRC's proposed action of determining whether to grant the SLR application. The Browns Ferry Units are boiling water reactors designed by General Electric and are located on the north shore of Wheeler Reservoir in Limestone County, Alabama, at Tennessee River Mile 294. The current renewed facility operating licenses for Units 1, 2, and 3, expire at midnight on December 20, 2033, June 28, 2034, and July 2, 2036, respectively. The SLR application was submitted pursuant to part 54 of title 10 of the Code of Federal Regulations (10 CFR), “Requirements for Renewal of Operating Licenses for Nuclear Power Plants,” and seeks to extend the renewed facility operating licenses for Units 1, 2, and 3, to midnight on December 20, 2053, June 28, 2054, and July 2, 2056, respectively.

On April 3, 2024, the NRC published in the Federal Register, a notice of intent to conduct a scoping process and prepare a site-specific environmental impact statement (EIS) (89 FR 23056). Consistent with Commission Legal Issuance (CLI-22-03), the SLR application contained an ER in which the impacts of all environmental issues were evaluated on a site-specific basis, and the NRC staff initiated a review to address the impacts for all such issues during the SLR period in a site-specific EIS. The NRC staff stated in the original notice of intent that it would first conduct a scoping process for the site-specific EIS and then prepare a draft site-specific EIS for public comment. During the 30-day scoping period, the NRC received comments through written correspondence and two public meetings.

II. Discussion

On August 6, 2024, the NRC published a final rule in the Federal Register (89 FR 64166) revising its environmental protection regulations in 10 CFR part 51, “Environmental Protection Regulations for Domestic Licensing and Related Regulatory Functions.” The final rule updates the potential environmental impacts associated with the renewal of an operating license for a nuclear power plant for up to an additional 20 years for either an initial license renewal or one period of SLR. Revision 2 to NUREG-1437, “Generic Environmental Impact Statement for License Renewal of Nuclear Plants” (LR GEIS) (ADAMS Package Accession No. ML24087A133) provides the technical basis for the final rule. The revised LR GEIS supports the updated list of environmental issues and associated environmental impact findings contained in table B-1 in appendix B to subpart A of the revised 10 CFR part 51 for both initial license renewals and one period of SLR.

The final rule became effective 30 days after its publication in the Federal Register (i.e., on September 5, 2024), and staff must now consider the new and modified issues, as applicable, in its license renewal EISs. Accordingly, the NRC staff intends to prepare a supplement to the LR GEIS for the Browns Ferry SLR application. In contrast to the previously planned site-specific EIS, the SEIS will rely on the LR GEIS determinations for Category 1 (generic) issues that apply to all or a distinct subset of nuclear power plants. Site-specific information will be considered only on Category 2 (site-specific) issues and will be screened for new and significant information on Category 1 issues.

The NRC staff has determined that the original scoping period conducted for a site-specific EIS review is sufficient to include any comments that would have been submitted for a SEIS that relies on site-specific determinations for Category 2 issues and on the LR GEIS generic determinations for Category 1 issues; therefore, an additional scoping period will not be conducted. All information submitted during the 30-day scoping period that began April 3, 2024, will be considered and evaluated as appropriate during the development of the staff's SEIS for the Browns Ferry SLR. When issued, the draft SEIS will be made available for public comment in accordance with 10 CFR 51.73.

Dated: October 16, 2024.
For the Nuclear Regulatory Commission.
Stephen Koenick,
Chief, Environmental Project Management Branch 1, Division of Rulemaking, Environment, and Financial Support, Office of Nuclear Material Safety and Safeguards.

[FR Doc. 2024-24394 Filed 10-21-24; 8:45 am]

BILLING CODE 7590-01-P